ENVIRONMENTAL PROTECTION AGENCY

[ER-FRL-6644-2]

Environmental Impact Statements; Notice of Availability

Responsible Agency: Office of Federal Activities, General Information (202) 564-7167 or http://www.epa.gov/compliance/nepa/

Weekly receipt of Environmental Impact Statements

Filed September 15, 2003 Through September 19, 2003

Pursuant to 40 CFR 1506.9.

EIS No. 030426, FINAL EIS, NOA, AK, Cook Inlet Beluga Whale Stock, Federal Actions Associated with the Management and Recovery, Implementation, Cook Inlet, AK, Wait Period Ends: October 27, 2003, Contact: James W. Balsiger (907) 271-5006.

EIS No. 030427, FINAL EIS, AFS, AK, Licking Creek Timber Sale, Timber Harvest, Implementation, Tongass National Forest, Ketchikan Misty Fiords Ranger District, Revillagigedo Island, Ketchikan, AK, Wait Period Ends: October 27, 2003, Contact: Thomas Puchlerz (907) 228-6281.

EIS No. 030428, DRAFT EIS, NOA, Framework Adjustment 4 to the Atlantic Mackeral, Squid, and Bullfish Fishery Management Plan, Extension of the Moratorium for the Illex Fishery, Mid-Atlantic Fishery Management Council, Comment Period Ends: November 10, 2003, Contact: George H. Darcy (301) 713-1622.

This document is available on the Internet at: http://www.mafmc.org/mid-atlantic/publications/pubs-draft.htm.

Amended Notices

EIS No. 020386, DRAFT EIS, COE, PR, Port of The Americas Project, Development of a Deep-Draft Terminal at the Port of Ponce to Receive Post-Panamax Ships, COE Section 10 and 404 Permits, Municipalities of Guayanilla-Penuelas and Ponce, Puerto Rico, Contact: Edwin E. Muniz (787) 289-7034.

Revision of FR Notice Published on 9/20/2002: Officially Withdrawn by the Preparing Agency by letter Dated 12/5/2002.

Dated: September 23, 2003.
Joseph C. Montgomery,
Director, NEPA Compliance Division, Office of Federal Activities.

[FR Doc. 03-24400 Filed 9-25-03; 8:45 am]

BILLING CODE 6560-50-P